NATIONAL TRANSPORTATION SAFETY BOARD

Meeting

Agenda

Time and Date: 9:30 a.m., Thursday, January 10, 2008.

Place: NTSB Conference Center, 429 L'Enfant Plaza, SW., Washington, DC 20594.

Status: The one item is open to the public.

Matter To Be Considered:

7963 Marine Accident Report—Heeling Accident on M/V Crown Princess, Atlantic Ocean Off POrt Canaveral, Florida, July 18, 2006.

News Media Contact: Telephone: (202) 314-6100.

Individuals requesting specific accommodations should contact Chris Bisett at (202) 314-6305 by Friday, January 4, 2008.

The public may view the meeting via a live or archived webcast by accessing a link under “News & Events” on the NTSB home page at www.ntsb.gov.

For Further Information Contact: Vicky D'Onofrio, (202) 314-6410.

Dated: December 28, 2007.
Vicky D'Onofrio,
Federal Register Liaison Officer.

[FR Doc. 07-6294 Filed 01-04-08; 8:45 am]

BILLING CODE 7533-01-PM